DEPARTMENT OF ENERGY

Federal Energy Regulatory Commission

[Docket No. CP07-414-000]

Golden Triangle Storage, Inc.; Notice of Intent To Prepare an Environmental Assessment for the Proposed Golden Triangle Storage Project, Request for Comments on Environmental Issues, and Notice of Public Scoping Meeting and Site Visit

August 7, 2007.

The staff of the Federal Energy Regulatory Commission (FERC or Commission) will prepare an environmental assessment (EA) that will discuss the environmental impacts of the proposed Golden Triangle Storage Project, which involves construction and operation of natural gas storage facilities in Jefferson and Orange Counties, Texas. This notice announces the opening of the scoping period that will be used to gather environmental input from the public and interested agencies on the project. Your input will help the Commission staff determine which issues need to be evaluated in the EA. Please note that the scoping period will close on September 6, 2007.

Comments may be submitted in written form or verbally. Further details on how to submit written comments are provided in the Public Participation portion of this notice. In addition to or in lieu of sending written comments, we invite you to attend the public scoping meeting at the location listed below.

Date and time | Location
Tuesday, August 28, 2007, 7-10 pm (CST) | Lamar University, Mary & John Gray Library, 4400 MLK Blvd, Beaumont, TX 77710.

Public scoping meetings are designed to provide state and local agencies, interested groups, affected landowners, and the general public with another opportunity to offer comments on the project. Interested groups and individuals are encouraged to attend the meeting and to present comments on the environmental issues they believe should be addressed in the EA.

With this notice, we ¹ are asking other federal, state, local, and tribal agencies with jurisdiction and/or special expertise with respect to environmental issues to cooperate with us in the preparation of the EA. Agencies that would like to request cooperating status should follow the instructions for filing comments provided below.

¹ “We,” “us,” and “our” refer to the environmental staff of the FERC's Office of Energy Projects.

If you are a landowner receiving this notice, you may be contacted by a Golden Triangle Storage, Inc. (GTS) representative about the acquisition of an easement to construct, operate, and maintain the proposed facilities. The company would seek to negotiate a mutually acceptable agreement. However, if the project is approved by the Commission, that approval conveys with it the right of eminent domain. Therefore, if easement negotiations fail to produce an agreement, GTS could initiate condemnation proceedings in accordance with state law.

A fact sheet prepared by the FERC entitled “An Interstate Natural Gas Facility on My Land? What Do I Need to Know?” addresses a number of typically asked questions, including the use of eminent domain and how to participate in the Commission's proceedings. It is available for viewing on the FERC Internet Web site (http://www.ferc.gov).

Summary of the Proposed Project

GTS seeks authorization to construct a new natural gas storage facility in Jefferson and Orange Counties, Texas. The Golden Triangle Storage Project would consist of developing two 8.0-billion-cubic-feet storage caverns; two parallel 7.45-mile-long, 24-inch-diameter pipelines; 1.45 miles of additional 24-inch-diameter pipeline; six associated meter stations; a 14,205 horsepower compressor station; up to five brine disposal wells; a brine disposal pipeline; a freshwater pipeline; and other appurtenant facilities.

Land Requirements for Construction

Construction of the proposed project would affect a total of about 190.8 acres during construction. Following construction, about 67.5 acres would be allowed to revert to its previous conditions.

GTS proposes to construct its two parallel 24-inch-diameter pipelines in a 100-foot-wide construction right-of-way, and would maintain a 75-foot-wide permanent right-of-way for operation and maintenance. A 75-foot-wide construction right-of-way would be required for the additional 1.45-mile-long 24-inch-diameter pipeline. GTS would maintain a 50-foot-wide permanent right-of-way for operation and maintenance of this segment.

The EA Process

We are preparing the EA to comply with the National Environmental Policy Act of 1969 (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice, we are requesting public comments on the scope of the issues to address in the EA. All comments received will be considered during the preparation of the EA.

Our independent analysis of the issues will be presented in the EA. Depending on the comments received during the scoping process, the EA may be published and mailed to federal, state, and local agencies; public interest groups; interested individuals; affected landowners; newspapers and libraries in the project area; and the Commission's official service list for this proceeding. A comment period will be allotted for public review if the EA is published. We will consider all comments on the EA before we make our recommendations to the Commission.

Public Participation

You can make a difference by providing us with your specific comments or concerns about the project. By becoming a commenter, your concerns will be addressed in the EA and considered by the Commission. Your comments should focus on the potential environmental effects of the proposal, reasonable alternatives to the proposal (including alternative locations and routes), and measures to avoid or lessen environmental impact. The more specific your comments, the more useful they will be. Please carefully follow these instructions to ensure that your comments are received in time and properly recorded:

• Send an original and two copies of your letter to: Kimberly D. Bose, Secretary, Federal Energy Regulatory Commission, 888 First Street, NE., Room 1A, Washington, DC 20426.

• Label one copy of the comments for the attention of Gas Branch 1;

• Reference Docket No. CP07-414-000;

• Mail your comments so that they will be received in Washington, DC on or before September 6, 2007.

Please note that the Commission strongly encourages electronic filing of comments. See Title 18 of the Code of Federal Regulations, Part 385.2001(a)(1)(iii) (18 CFR 385.2001 (a)(1)(iii))and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

Site Visit

Also on August 28, 2007, the FERC staff will conduct a site visit of the proposed Golden Triangle Storage Project. We will view the proposed storage cavern locations, well sites, and associated pipeline routes. Representatives of GTS will accompany us during the visit.

All interested parties may attend the site visit. Those planning to attend must provide their own transportation. If you are interested in attending the site visit, please meet at 1 p.m. at the site of the public meeting.

Becoming an Intervenor

In addition to involvement in the scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor, you must file a motion to intervene according to Rule 214 of the Commission's Rules of Practice and Procedure (18 CFR 385.214). Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. We encourage government representatives to notify their constituents of this planned project and encourage them to comment on their areas of concern. If you do not return the attached form (Appendix B), you will be removed from the Commission's environmental mailing list.

Additional Information

Additional information about the project is available from the Commission's Office of External Affairs at 1-866-208 FERC (3372) or on the FERC Internet Web site (http://www.ferc.gov). Using the “eLibrary” link, select “General Search” from the eLibrary menu, enter the selected date range and “Docket Number” excluding the last three digits (i.e., CP07-414), and follow the instructions. For assistance with access to eLibrary, the helpline can be reached at 1-866-208-3676, TTY (202) 502-8659, or at FERCOnlineSupport@ ferc.gov. The eLibrary link on the FERC Internet Web site also provides access to the texts of formal documents issued by the Commission, such as orders, notices, and rule makings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E7-15800 Filed 8-10-07; 8:45 am]

BILLING CODE 6717-01-P